DEPARTMENT OF AGRICULTURE

Forest Service

National Tree-Marking Paint Committee Meeting

AGENCY: Forest Service, USDA.

ACTION: Notice of meeting.

SUMMARY: The National Tree-marking Paint Committee will meet in Eureka, California on May 16-18, 2006. The purpose of the meeting is to discuss activities related to improvements in, concerns about, and the handling and use of tree-marking paint by personnel of the Forest Service and the Department of the Interior's Bureau of Land Management.

DATES: The meeting will be held May 16-18, 2006, from 8 a.m. to 5 p.m.

ADDRESSES: The meeting will be held at the Red Lion Inn, 1929 Fourth Street, Eureka, California, 95501. Persons who wish to file written comments before or after the meeting must send written comments to Bob Simonson, Acting Chairman, National Tree-marking Paint Committee, Forest Service, USDA, San Dimas Technology and Development Center, 444 East Bonita Avenue, San Dimas, California 91773, or electronically to bsimonson@fs.fed.us.

FOR FURTHER INFORMATION CONTACT: Bob Simonson, Program Leader, San Dimas Technology and Development Center, Forest Service, USDA, (909) 599-1267, extension 242 or bsimonson@fs.fed.us.

SUPPLEMENTARY INFORMATION: The National Tree-Marking Paint Committee comprises representatives from the Forest Service national headquarters, each of the nine Forest Service Regions, the Forest Products Laboratory, the Forest Service San Dimas Technology and Development Center, and the Bureau of Land Management. The General Services Administration and the National Institute for Occupational Safety and Health are ad hoc members and provide technical advice to the committee.

A field trip will be held on May 16 and is designed to supplement information related to tree-marking paint. This trip is open to any member of the public participating in the public meeting on May 17-18. However, transportation is provided only for committee members.

The main session of the meeting, which is open to public attendance, will be held on May 17-18.

Closed Sessions

While certain segments of this meeting are open to the public, there will be two closed sessions during the meeting. The first closed session is planned for approximately 9 to 11 a.m. on May 17. This session is reserved for individual paint manufacturers to present products and information about tree-marking paint for consideration in future testing and use by the agency. Paint manufacturers also may provide comments on tree-marking paint specifications or other requirements. This portion of the meeting is open only to paint manufacturers, the Committee, and committee staff to ensure that trade secrets will not be disclosed to other paint manufacturers or to the public. Paint manufacturers wishing to make presentations to the Tree-Marking Paint Committee during the closed session should contact the Acting Chairman at the telephone number listed at FOR FURTHER INFORMATION CONTACT in this notice. The second closed session is planned for approximately 2 to 4 p.m. on May 18, 2005. This session is reserved for Federal Government employees only.

Any person with special access needs should contact the Acting Chairman to make those accommodations. Space for individuals who are not members of the National Tree-Marking Paint Committee is limited and will be available to the public on a first-come, first-served basis.

Dated: April 7, 2006.
Frederick R. Norbury,
Associate Deputy Chief, National Forest System.

[FR Doc. E6-6081 Filed 4-21-06; 8:45 am]

BILLING CODE 3410-11-P